DEPARTMENT OF ENERGY

Federal Energy Regulatory Commission

[Project No. 2535-129]

Dominion Energy South Carolina, Inc.; Notice of Application Tendered for Filing With the Commission and Soliciting Additional Study Requests and Establishing Procedural Schedule for Relicensing and a Deadline for Submission of Final Amendments

Take notice that the following hydroelectric application has been filed with the Commission and is available for public inspection.

a. Type of Application: New License.

b. Project No.: 2535-129.

c. Date Filed: October 27, 2023.

d. Submitted By: Dominion Energy South Carolina, Inc.

e. Name of Project: Stevens Creek Hydroelectric Project.

f. Location: At the confluence of Stevens Creek and the Savannah River, in Edgefield and McCormick Counties, South Carolina, and Columbia County, Georgia. The project occupies approximately 104 acres of federal land administered by the U.S. Forest Service.

g. Filed Pursuant to: Federal Power Act 16 U.S.C. 791(a)-825(r).

h. Applicant Contact: Amy Bresnahan, Dominion Energy South Carolina, Inc., 220 Operation Way, Mail Code A221, Cayce, SC 29033-3712; (803) 217-9965; email—Amy.Bresnahan@dominionenergy.com.

i. FERC Contact: Jeanne Edwards at (202) 502-6181; or email at jeanne.edwards@ferc.gov.

j. Cooperating Agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: December 8, 2023.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. All filings must clearly identify the project name and docket number on the first page: Stevens Creek Project (P-2535-129).

m. The application is not ready for environmental analysis at this time.

n. The Stevens Creek Project consists of these existing facilities: (1) a single dam with an integral powerhouse intake and lock consisting of (a) a 102.5-foot-long non-overflow section with a top elevation of 198.54 feet National Geodetic Vertical Datum 1929 (NGVD), (b) a 2,000-foot-long overflow spillway with a top elevation of 183.5 feet NGVD, (c) a 1,000-foot-long, 5-foot-high flashboard section from the lock to the center of the spillway, (d) a 1,000 foot-long, 4-foot-high steel flashboard section from the center of the spillway to the South Carolina abutment, (e) an 85-foot-wide, 165.5-foot-long concrete gravity navigation lock, with a lock chamber that is 30-foot-wide, 150-foot-long, and has a 29-foot-lift, located between the powerhouse and spillway section, (f) a 388-foot-long powerhouse intake, integral with the dam, protected by trashracks with 3.75-inch-clear bar spacing, and (g) a 97-foot-long non-overflow section; (2) a 388-foot-long, 52-foot-wide, 57-foot-high three-story brick powerhouse, integral with the dam, containing eight vertical Francis generating units, each rated at 3,125 horsepower, a total generating capacity of 17.28 megawatts, and total hydraulic capacity of 8,300 cubic feet per second; (3) a 2,400-acre reservoir with a storage capacity of 23,699-acre-feet at a full pond elevation of 187.5 feet NGVD; (4) generator leads from the powerhouse to a switchyard located approximately 100 feet from the powerhouse; and (5) ancillary equipment.

The Stevens Creek Project operates as a re-regulating project, mitigating the downstream effects of the routinely wide-ranging discharges from the upstream U.S. Army Corps of Engineers J. Strom Thurmond hydroelectric project. The Stevens Creek reservoir normally fluctuates between an elevation of 183.0 feet NGVD and 187.5 feet NGVD, using available storage capacity to re-regulate flows released from Thurmond Dam.

o. Copies of the application may be viewed on the Commission's website at http://www.ferc.gov using the “eLibrary” link. Enter the docket number, excluding the last three digits in the docket number field to access the document (P-2535). For assistance, contact FERC Online Support at FERCOnlineSupport@ferc.gov, or call (866) 208-3676 (toll-free) or (202) 502-8659 (TTY).

You may also register online at http://www.ferc.gov/docs-filing/esubscription.asp to be notified via email of new filings and issuances related to this or other pending projects. For assistance, contact FERC Online Support.

p. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595, or OPP@ferc.gov.

q. Procedural schedule and final amendments: the application will be processed according to the following preliminary schedule. Revisions to the schedule will be made as appropriate.

Milestone | Target date
Issue Deficiency Letter (if necessary) | January 2024.
Request Additional Information (if necessary) | January 2024.
Issue Acceptance Letter | May 2024.
Issue Scoping Document 1 for comments | June 2024.
Request Additional Information (if necessary) | August 2024.
Issue Scoping Document 2 (if necessary) | August 2024.
Issue Notice of Ready for Environmental Analysis | September 2024.

r. Final amendments to the application must be filed with the Commission no later than 30 days from the issuance date of the notice of ready for environmental analysis.

Dated: November 8, 2023.
Kimberly D. Bose,
Secretary.

[FR Doc. 2023-25180 Filed 11-14-23; 8:45 am]

BILLING CODE 6717-01-P